ELECTION ASSISTANCE COMMISSION

Notice of Sunshine Act Meeting

AGENCY: United States Election Assistance Commission.

ACTION: Notice of public meeting.

DATE AND TIME: Thursday, May 25, 2006, 10 a.m.-1 p.m.

PLACE: Hamilton Crowne Plaza, 1001 14th Street, NW. (14th and K Streets, NW.), Washington, DC 20005, (202) 682-0111.

AGENDA: The Commission will receive presentations on the poll worker recruitment and training project and will receive presentations on college poll worker recruitment and training from election officials and grantees of the HAVA College Poll Worker Initiative. The Commission will receive reports on other administrative matters. The Commission will consider adopting an Ex Parte Communications policy.

This meeting will be open to the public.

FOR FURTHER INFORMATION CONTACT: Bryan Whitener, Telephone: (202) 566-3100.

Thomas R. Wilkey,
Executive Director, U.S. Election Assistance Commission.

[FR Doc. 06-4295 Filed 5-3-06; 4:11 pm]

BILLING CODE 6820-KF-M